DEPARTMENT OF HOUSING AND URBAN DEVELOPMENT

[Docket No. FR-5376-N-27]

Notice of Proposed Information Collection: American Recovery and Reinvestment Act; Public and Indian Housing Grants Reporting; Comment Request

AGENCY: Office of the Chief Information Officer, HUD.

ACTION: Notice.

SUMMARY: The proposed information collection requirement described below will be submitted to the Office of Management and Budget (OMB) for review, as required by the Paperwork Reduction Act. The Department is soliciting public comments on the subject proposal.

DATES: Comments Due Date: July 6, 2010.

ADDRESSES: Interested persons are invited to submit comments regarding this proposal. Comments should refer to the proposal by name and/or OMB Control Number (2577-0264) and should be sent to: Departmental Reports Management Officer, QDAM, Department of Housing and Urban Development, 451 Seventh Street, SW., Room 4178, Washington, DC 20410.

FOR FURTHER INFORMATION CONTACT: Jeffrey D. Little, Office of the Secretary Recovery Implementation Team, Department of Housing and Urban Development, 451 Seventh Street, SW., Room 10156, Washington, DC 20410; telephone: 202-402-5649, (this is not a toll-free number) or e-mail Mr. Little at Jeffrey.D.Little@hud.gov.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: American Recovery and Reinvestment Act Public and Indian Housing Grants Reporting.

OMB Control Number, if applicable: 2577-0264.

Description of the need for the information and proposed use: Public Housing Capital Fund, Assisted Housing Stability and Energy and Green Retrofit Investments Program, Indian Community Development Block Grant Program, Native American Housing Block Grants, Native Hawaiian Housing Block Grants; must provide information to HUD for the reporting Requirements of HUD ARRA Section 1512. (“Recovery Act”) grants.

Section 1512 of the Recovery Act details reporting requirements for the recipients of recovery Act funding. Recipients are to report on the obligation and expenditure of Recovery Act funds, details of the projects on which those funds have been obligated and expended, an evaluation of the completion status of projects and the number of jobs created and jobs retained by the project.

Agency form numbers, if applicable: N/A, the data will be collected utilizing a Web-based application.

Members of Affected Public: State, Local or Local Government and Non-profit organization.

Estimation of the total number of hours needed to prepare the information collection including number of respondents, frequency of response, and hours of response: The estimated number of respondents is 5,500 and the number of responses is 4. There will be in total, approximately 22,000 total responses. The total reporting burden is 90,222 hours.

Status of the proposed information collection: Revision of previously approved collection on Recovery Act projects.

Authority: Section 3506 of the Paperwork Reduction Act of 1995, 44 U.S.C. Chapter 35, as amended.

Dated: April 27, 2010.
Peter Grace,
Special Assistant to the Secretary, Office of Strategic Planning and Management.

[FR Doc. 2010-10326 Filed 5-3-10; 8:45 am]

BILLING CODE 4210-67-P